DEPARTMENT OF TRANSPORTATION

Federal Aviation Administration

14 CFR Part 39

[Docket No. 2002-NM-306-AD]

RIN 2120-AA64

Airworthiness Directives; McDonnell Douglas Model DC-9-10, DC-9-20, DC-9-30, DC-9-40, and DC-9-50 Series Airplanes; and Model DC-9-81 (MD-81) and DC-9-82 (MD-82) Airplanes

AGENCY: Federal Aviation Administration, DOT.

ACTION: Proposed rule; withdrawal.

SUMMARY: This action withdraws a notice of proposed rulemaking (NPRM) that proposed superseding an existing airworthiness directive (AD), applicable to certain McDonnell Douglas transport category airplanes. That action would have required inspection for proper installation, damage, or abrasion of the power feeder cables and trough installations; proper installation of caterpillar grommets in the lightening holes; and repair if necessary. The proposed rule also would have required modification of the power feeder cable installation and added airplanes to the applicability of the existing AD. Since the issuance of the NPRM, the FAA has received new data indicating that the applicability and required actions of the existing AD adequately address the unsafe condition that is identified in the existing AD. Accordingly, the proposed AD is withdrawn.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to supersede an existing airworthiness directive (AD), applicable to certain McDonnell Douglas transport category airplanes, was published in the Federal Register as a Notice of Proposed Rulemaking (NPRM) on September 19, 2003 (68 FR 54864). The proposed rule would have required inspection for proper installation, damage, or abrasion of the power feeder cables and trough installations; proper installation of caterpillar grommets in the lightening holes; and repair if necessary. The proposed rule also would have required modification of the power feeder cable installation and added airplanes to the applicability of existing AD 85-25-06, amendment 39-5177 (50 FR 49833, December 5, 1985). That action was prompted by reports of chafing and/or abrasion of the power feeder cables and six instances of shorted power feeder cables. The proposed actions were intended to prevent a possible loss of electrical bus power, which could result in a potential fire ignition source and consequent fire in the cabin.

Actions That Occurred Since the NPRM Was Issued

Since the issuance of that NPRM, we have had clarification from the manufacturer that no additional airplanes have been identified that may be affected by the unsafe condition described above, other than those specified in McDonnell Douglas DC-9 Service Bulletin 24-78, dated April 9, 1985. That service bulletin was specified in AD 85-25-06 as the appropriate source of service information for that AD.

FAA's Conclusions

Upon further consideration, the FAA has determined that, since DC-9 Service Bulletin 27-78, dated April 9, 1985, is the service information cited in AD 85-25-06 and no additional airplanes have been identified that may be affected by the unsafe condition, it is unnecessary to supersede that AD. Accordingly, the proposed rule is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2002-NM-306-AD, published in the Federal Register on September 19, 2003 (68 FR 54864), is withdrawn.

Issued in Renton, Washington, on March 14, 2005.
Ali Bahrami,
Manager, Transport Airplane Directorate, Aircraft Certification Service.

[FR Doc. 05-5700 Filed 3-22-05; 8:45 am]

BILLING CODE 4910-13-P